NATIONAL CREDIT UNION ADMINISTRATION

Sunshine Act; Notice of Agency Meeting

TIME AND DATE: 1:00 p.m., Wednesday, March 27, 2019.

PLACE: Board Room, 7th Floor, Room 7047, 1775 Duke Street, Alexandria, VA 22314-3428.

STATUS: Closed.

Pursuant to the provisions of the “Government in Sunshine Act,” notice is hereby given that the NCUA Board unanimously determined that agency business required holding a closed meeting with less than seven days' notice to the public, and that no earlier notice of the meeting was possible.

MATTERS TO BE CONSIDERED:

1. Consideration of Supervisory Action. Closed pursuant to Exemptions (8), (9) and (9)(ii).

CONTACT PERSON FOR MORE INFORMATION: Gerard Poliquin, Secretary of the Board, Telephone: 703-518-6304.

Gerard Poliquin,
Secretary of the Board.

[FR Doc. 2019-06113 Filed 3-26-19; 4:15 pm]

BILLING CODE 7535-01-P